DEPARTMENT OF HEALTH AND HUMAN SERVICES

Food and Drug Administration

[Docket No. 2007P-0074]

Joint Meeting of the Nonprescription Drugs Advisory Committee and the Pediatric Advisory Committee; Amendment of Notice

AGENCY: Food and Drug Administration, HHS.

ACTION: Notice.

SUMMARY: The Food and Drug Administration (FDA) is announcing an amendment to the notice of a joint meeting of the Nonprescription Drugs Advisory Committee and the Pediatric Advisory Committee. This meeting was announced in the Federal Register of August 16, 2007 (72 FR 46091). The amendment is being made to reflect a change in the Procedure portion of the document. There are no other changes.

FOR FURTHER INFORMATION CONTACT: Darrell Lyons, Center for Drug Evaluation and Research (HFD-21), Food and Drug Administration, 5630 Fishers Lane (for express delivery, 5630 Fishers Lane, rm. 1093), Rockville, MD 20857, 301-827-7001, FAX: 301-827-6776, e-mail: darrell.lyons@fda.hhs.gov, or FDA Advisory Committee Information Line, 1-800-741-8138 (301-443-0572 in the Washington, DC area), codes 3014512541 and 8732310001. Please call the Information Line for up-to-date information on this meeting.

SUPPLEMENTARY INFORMATION: In the Federal Register of August 16, 2007, FDA announced that a joint meeting of Nonprescription Drugs Advisory Committee and the Pediatric Advisory Committee would be held on October 18 and 19, 2007. On page 46091, in the third column, the third sentence of the Procedure portion of the document is changed to read as follows:

Procedure: Oral presentations from the public will be scheduled between approximately 8:30 a.m. and 10:30 a.m. on October 19, 2007.

This notice is issued under the Federal Advisory Committee Act (5 U.S.C. app. 2) and 21 CFR part 14, relating to advisory committees.

Dated: September 23, 2007.
Randall W. Lutter,
Deputy Commissioner for Policy.

[FR Doc. E7-19332 Filed 9-28-07; 8:45 am]

BILLING CODE 4160-01-S